FEDERAL HOUSING FINANCE BOARD

Sunshine Act; Meeting

FEDERAL REGISTER CITATION OF PREVIOUS ANNOUNCEMENT: 66 FR 59595, November 29, 2001.

PREVIOUSLY ANNOUNCED TIME AND DATE OF THE MEETING: 10 a.m., Wednesday, December 5, 2001.

CHANGE OF MEETING DATE: Notice is hereby given that the Board of Directors meeting scheduled for December 5, 2001 has been changed to Tuesday, December 11, 2001 at 3 p.m.

CONTACT PERSON FOR MORE INFORMATION: Elaine L. Baker, Secretary to the Board, (202) 408-2837.

J. Timothy O'Neill,
Chairman.

[FR Doc. 01-30429 Filed 12-5-01; 10:50 am]

BILLING CODE 6725-01-M